DEPARTMENT OF STATE

22 CFR Part 42

RIN 1400-AB38

[Public Notice 4312]

Documentation of Immigrants Under the Immigration and Nationality Act, as Amended—Immediate Relatives

AGENCY: Department of State.

ACTION: Final rule.

SUMMARY: On January 11, 2002 the Department published an interim rule that expanded the definition of immediate relative to include the widows and children whose spouses/parents were victims of the September 11, 2001 terrorist attacks. This rule makes final the interim rule.

EFFECTIVE DATE: This rule takes effect March 20, 2003.

FOR FURTHER INFORMATION CONTACT: Pam Chavez, Legislation and Regulations Division, Visa Office, Room L603-C, SA-1, Department of State, Washington, DC 20522-0106, (202) 663-1206 or e-mail at chavezpr@state.gov.

SUPPLEMENTARY INFORMATION: Section 423 of Public Law 107-56 (the “USA Patriot Act”) provided for immediate relative status for spouses of U.S. citizens widowed as a direct result of the terrorist acts of September 11, 2001, regardless of the length of the marriage, and provided that the spouse was not legally separated at the time of the citizens death and files a petition within two years of the death, having not remarried in the interim. Children of a U.S. citizen killed in one of the terrorist acts of September 11, 2001 may also file a petition for status as an immediate relative, provided the petition is filed within two years of the death of the parent, and regardless of the age of the child or marital status.

Final Rule

On January 11, 2002, the Department published an interim rule [67 FR 1414] which amended 22 CFR 42.21. The rule solicited comments, however, no comments were received. This rule, therefore, makes final the interim rule with no revisions. Since no changes are being made to the interim rule, the Department does not feel it necessary to publish the regulation in full herein. The interim rule is adopted as final without changes.

Dated: February 28, 2003.
Maura Harty,
Assistant Secretary for Consular Affairs, Department of State.

[FR Doc. 03-6716 Filed 3-19-03; 8:45 am]

BILLING CODE 4710-06-P